SECURITIES AND EXCHANGE COMMISSION

[Release No. 34-74643; File No. SR-NYSEMKT-2014-95]

Self-Regulatory Organizations; NYSE MKT LLC; Notice of Withdrawal of a Proposed Rule Change, as Modified by Partial Amendment No. 1 and Partial Amendment No. 2, Amending Rule 13—Equities and Related Rules Governing Order Types and Modifiers

April 3, 2015.

On October 31, 2014, NYSE MKT LLC (“NYSE MKT” or “Exchange”) filed with the Securities and Exchange Commission (“Commission”), pursuant to Section 19(b)(1) of the Securities Exchange Act of 1934 (“Act”) ¹ and Rule 19b-4 thereunder,² a proposed rule change to amend Exchange Rule 13—Equities and other related Exchange rules governing order types and order modifiers. The proposed rule change was published in the Federal Register on November 20, 2014.³ On November 14, 2014, the Exchange submitted Partial Amendment No. 1 to the Commission.⁴ On December 22, 2014, the Exchange submitted Partial Amendment No. 2 to the Commission. On December 22, 2014, pursuant to Section 19(b)(2) of the Act,⁵ the Commission designated a longer period within which to approve the proposed rule change, disapprove the proposed rule change, or institute proceedings to determine whether to disapprove the proposed rule change.⁶ On February 18, 2015, the Commission instituted proceedings under Section 19(b)(2)(B) of the Act to determine whether to disapprove the proposed rule changes.⁷

¹ 15 U.S.C. 78s(b)(1).

² 17 CFR 240.19b-4.

³ See Securities Exchange Act Release No. 73593 (Nov. 14, 2014), 79 FR 69153 (“Notice”).

⁴ The Exchange also submitted a copy of the amendment to the public comment file. See Letter from Sudhir Bhattacharyya, Vice President, New York Stock Exchange, to Kevin M. O'Neill, Deputy Secretary, Commission (Nov. 14, 2014).

⁵ 15 U.S.C. 78s(b)(2).

⁶ See Securities Exchange Act Release No. 73913, 79 FR 78531 (Dec. 30, 2014).

⁷ See Securities Exchange Act Release No. 74298, 80 FR 9770 (Feb. 24, 2015).

On February 26, 2014, the Exchange withdrew the proposal SR-NYSEMKT-2014-95.

For the Commission, by the Division of Trading and Markets, pursuant to delegated authority.⁸
⁸ 17 CFR 200.30-3(a)(12).
Brent J. Fields,
Secretary.

[FR Doc. 2015-08108 Filed 4-8-15; 8:45 am]

BILLING CODE 8011-01-P